SMALL BUSINESS ADMINISTRATION

[License No. 03/03-0247]

Solutions Capital I, L.P.; Notice Seeking Exemption Under Section 312 of the Small Business Investment Act, Conflicts of Interest

Notice is hereby given that Solutions Capital I, L.P., 1100 Wilson Blvd., Suite 3000, Arlington, VA 22209, a Federal Licensee under the Small Business Investment Act of 1958, as amended (“the Act”), in connection with the financing of a small concern, has sought an exemption under Section 312 of the Act and Section 107.730, Financings which Constitute Conflicts of Interest, of the Small Business Administration (“SBA”) Rules and Regulations (13 CFR 107.730). Solutions Capital I, L.P. proposes to provide equity/debt security financing to GSDM Holdings, LLC, 66 Route 17 North, 2nd Floor, Paramus, NJ 07652. The financing is contemplated for working capital and general corporate purposes.

The financing is brought within the purview of § 107.730(a)(1) of the Regulations because MCG Capital Corporation, an Associate of Solutions Capital I, L.P., owns more than ten percent of GSDM Holdings, LLC; therefore, GSDM Holdings, LLC is considered an Associate of Solutions Capital I, L.P., as defined in Sec. 105.50 of the regulations.

Notice is hereby given that any interested person may submit written comments on the transaction to the Associate Administrator for Investment, U.S. Small Business Administration, 409 Third Street, SW., Washington, DC 20416.

Dated: April 22, 2010.
Sean J. Greene,
Associate Administrator for Investment.

[FR Doc. 2010-13548 Filed 6-4-10; 8:45 am]

BILLING CODE P